ENVIRONMENTAL PROTECTION AGENCY

40 CFR Part 141

[EPA-HQ-OW-2018-0558; FRL-9985-19-OW]

Expedited Approval of Alternative Test Procedures for the Analysis of Contaminants Under the Safe Drinking Water Act; Analysis and Sampling Procedures

Correction

In rule document 2018-22162, appearing on pages 51636 through 51652, in the issue of Friday, October 12, 2018, make the following corrections:

1. On page 51646, in the table labelled “ALTERNATIVE TESTING METHODS FOR CONTAMINANTS LISTED AT 40 CFR 141.24(e)(1),” for the Contaminant “Atrazine” and the Methodology “Solid Phase Extraction/Gas Chromatography/Mass Spectrometry (GC/MS),” the EPA Method should read “525.3 ²⁴, 523 ²⁶” and the SM 21st edition ¹ should be blank.

2. On page 51647, in the table labelled “ALTERNATIVE TESTING METHODS FOR CONTAMINANTS LISTED AT 40 CFR 141.24(e)(1)—Continued,” for the Contaminant “Simazine” and the Methodology “Solid Phase Extraction/Gas Chromatography/Mass Spectrometry (GC/MS),” the EPA Method should read “525.3 ²⁴, 523 ²⁶” and the SM 21st edition ¹ should be blank.

3. On the same page, in the same table, for the Contaminant “Total Trihalomethanes” and the Methodology “Purge &Trap/Gas Chromatography/Mass Spectrometry,” the EPA Method should read “524.3 ⁹, 524.4 ²⁹” and the SM 21st edition ¹ should be blank.

4. On page 51649, in the table labelled “ALTERNATIVE TESTING METHODS FOR CONTAMINANTS LISTED AT 40 CFR 141.131(b)(1)—Continued,” the second Contaminant should read “Chlorite—daily monitoring as prescribed in 40 CFR 141.132(b)(2)(i)(A)”.

5. On the same page, in the same table, on the same row, the Methodology should read “Amperometric Titration” and the EPA Method should be blank.

6. On page 51650, in the table labelled “ALTERNATIVE TESTING METHODS FOR CONTAMINANTS LISTED AT 40 CFR 143.4(b),” for the Contaminant “Chloride” and the Methodology “Silver Nitrate Titration,” the SM 21st edition ¹ should read “4500-Cl− B”.

7. On the same page, in the same table, on the same row, the SM 22nd edition,²⁸ SM 23rd edition ⁴⁹ should read “4500-Cl− B”.

[FR Doc. C1-2018-22162 Filed 10-30-18; 8:45 am]

BILLING CODE 1301-00-D